DEPARTMENT OF AGRICULTURE

Animal and Plant Health Inspection Service

[Docket No. APHIS-2007-0007]

National Animal Identification System; User Guide and Technical Documents

AGENCY: Animal and Plant Health Inspection Service, USDA.

ACTION: Notice of availability and request for comments.

SUMMARY: We are advising the public that we are making available for review and comment three documents related to the National Animal Identification System: A Draft User Guide, a Program Standards and Technical Reference document, and a technical specification document for the animal tracking databases.

ADDRESSES: All three documents are available on the Internet at http://animalid.aphis.usda.gov/nais/. The documents may also be viewed in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: • Draft User Guide: Dr. Adam Grow; Director, Surveillance and Identification Programs, National Center for Animal Health Programs, VS, APHIS, 4700 River Road Unit 200, Riverdale, MD 20737-1231; (301) 734-3752.

• Program Standards and Technical Reference: Dr. John F. Wiemers, National Animal Identification Staff, VS, APHIS, 2100 S. Lake Storey Road, Galesburg, IL 61401; (309) 344-1942.

• Animal Tracking Databases Technical Specifications Document: Mr. Rich Baca, Team Leader, Veterinary Services Application Information Management, Centers for Epidemiology and Animal Health, VS, APHIS, 2150 Centre Avenue, Bldg B, Mail Stop 2W4, Fort Collins, CO 80526; (970) 494-7346.

SUPPLEMENTARY INFORMATION:

Background

As part of ongoing efforts to safeguard animal health, the U.S. Department of Agriculture (USDA) initiated implementation of a National Animal Identification System (NAIS) in 2004. The NAIS is a cooperative State-Federal-industry program administered by USDA's Animal and Plant Health Inspection Service (APHIS). The purpose of the NAIS is to provide a streamlined information system that will help producers and animal health officials respond quickly and effectively to animal disease events in the United States.

The first component of the program, premises registration, is well underway and the second component, animal identification, is being implemented for several species. The third component, animal tracing, is currently under development with USDA's State and industry partners. Industry, through private systems, and States will manage the animal tracking databases that maintain the movement records of animals. These information systems will provide the locations of a subject animal and the records of other animals that the subject animal came into contact with at each premises. Participation in any component of the program is voluntary.

This notice announces the availability of three documents related to the National Animal Identification System: A Draft User Guide, a Program Standards and Technical Reference document, and a technical specification document for the animal tracking databases.

Draft User Guide for the NAIS

The Draft User Guide provides comprehensive information about participating in the NAIS. Part I of the document provides a brief overview to familiarize producers with the NAIS, its goals, its organizational components, and other information concerning its ongoing implementation. The remainder of the document discusses each of the NAIS' components in greater detail and provides operational-level “how to” information and resources. Part II of the document provides information about premises registration; Part III of the document discusses the animal identification component of the program; and Part IV of the document details the animal tracing component.

The Draft User Guide is the most current plan for the NAIS and replaces all previously published program documents, including the 2005 Draft Strategic Plan and Draft Program Standards (announced at 70 FR 23961-23963, May 6, 2005) and the 2006 Strategy for the Implementation of NAIS (announced at 71 FR 17805-17806, April 7, 2006). Those documents provided the opportunity for the public to comment on the NAIS as USDA worked through many issues with industry and the States and Tribes. USDA received valuable feedback from producers, State animal health officials, and other interested stakeholders on the documents and on the program, and made adjustments to the program in response.

The Draft User Guide represents the most up-to-date general information on NAIS today. The NAIS will continue to evolve as details are addressed through ongoing dialogue with all stakeholders.

Program Standards and Technical Reference Document

The Program Standards and Technical Reference document supplements the Draft User Guide and provides, as a separate document, an update for the data element standards that were contained in the 2005 Draft Program Standards. To ensure a uniform, streamlined information system evolves, USDA has established certain data standards, where necessary, to facilitate standardization of information in the NAIS. This document provides the data element standards and other standards relative to the NAIS. Use of these standards by States, Tribes, and industry organizations involved in the administration of the system, manufacturers of identification devices, and other entities that are part of, or that support the NAIS, will ensure that the system is effective. Although the Draft User Guide contains valuable information about NAIS information systems, this Program Standards document is targeted more to entities that are involved in the administration of the program, and thus contains details not appropriate for the User Guide, which is aimed at producers participating in the program.

Animal Tracking Database Technical Specifications Document

USDA is developing a single portal, referred to as the Animal Trace Processing System (ATPS), to allow authorized State and Federal animal health officials to request information from the administrators of the animal tracking databases in certain situations:

• An indication (suspect, presumptive positive, etc.) or confirmed positive test of a foreign animal disease.

• An animal disease emergency as determined by the Secretary of Agriculture and/or State Departments of Agriculture.

• The need to conduct a traceback or traceforward to determine the origin of infection for a program disease (brucellosis, tuberculosis, etc.).

To ensure that the privatization of the animal movement tracking databases progresses in as timely a manner as possible, APHIS initiated the integration of private and State animal tracking databases (ATDs) with the NAIS during an interim/development phase to allow participation in 2006 and early 2007.

Organizations that wished to participate requested USDA evaluations of their systems for consideration. If the system met the interim requirements, the organization had the opportunity to participate in the interim cooperative agreement. As of January 15, 2007, APHIS had entered into interim cooperative agreements with 14 organizations that have databases that meet minimum standards and that wish to support the advancement of the integration of private and State animal tracking databases with the NAIS.

Throughout this interim/development phase, USDA continued to work with participating organizations to design and develop the ATPS and to establish the technical specifications of the ATDs. ATDs in the implementation phase will need to fulfill certain technical requirements to enable them to integrate with the ATPS. The Animal Tracking Database Technical Specifications document contains the specifications for establishing compliant animal tracking databases for the implementation phase. Applications for the implementation (production) phase of the animal tracking databases may be requested by contacting Mr. Rich Baca (see FOR FURTHER INFORMATION CONTACT).

Comments about any of these documents or other aspects of the NAIS may be submitted to USDA through the NAIS Web site e-mail address: animalidcomments@aphis.usda.gov or by mail to NAIS Program Staff, VS, APHIS, 4700 River Road, Unit 200, Riverdale, MD 20737.

Done in Washington, DC, this 30th day of January 2007.
Nick Gutierrez,
Acting Administrator, Animal and Plant Health Inspection Service.

[FR Doc. E7-1719 Filed 1-31-07; 8:45 am]

BILLING CODE 3410-34-P